DEPARTMENT OF JUSTICE

Office of Justice Programs

Agency Information Collection Activities: Proposed Collection; Comment Request

ACTION: Notice of information collection under review; summary of sentenced population movement annual data collection national prisoner statistics.

The Department of Justice, Office of Justice Programs, has submitted the following information collection request to the Office of Management and Budget for review and clearance in accordance with the Paperwork Reduction Act of 1995. This proposed information collection is published to obtain comments from the public and affected agencies. Comments are encouraged and will be accepted until December 18, 2000.

Request written comments and suggestions from the public and affected agencies concerning the proposed collection of information. Your comments should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility and clarity of the information to be collected; and

(4) Minimize the burden of the collection of information on those who are to respond, including through the use of appropriate automated, electronic, mechanical, or other technological collection techniques or other forms of information technology, e.g. permitting electronic submission of responses.

If you have additional comments, suggestions, or additional information, especially regarding the estimated public burden and associated response time, please write to Dr. Jan M. Chaiken, Director, Bureau of Justice Statistics, 810 Seventh St. NW, Washington, D.C. 20531. If you need a copy of the collection instrument with instructions, or have additional information, please contact Page Harrison at 202-514-0809, or via facsimile at 202-514-1757.

Overview of this information collection:

(1) Type of information collection: Extension of a currently approved collection.

(2) The title of the Form/Collection: Summary of Sentenced Population Movement National Prisoner Statistics.

(3) The agency form number and the applicable component of the Department sponsoring the collection. Form: NPS-1. Corrections Statistics, Bureau of Justice Statistics, Office of Justice Programs, United States Department of Justice.

(4) Affected public who will be asked to respond, as well as a brief abstract: Primary: State Departments of Corrections. Others: The Federal Bureau of Prisons. For the NPS-1 form, 52 central reporters (one from each state, the District of Columbia, and the Federal Bureau of Prisons) responsible for keeping records on inmates will be asked to provide prison admission information for the following categories: New court commitments, parole violators, other conditional release violators returned, transfers from other jurisdictions, AWOLs and escapees returned, and returns from appeal and bond. Respondents will also be asked to provide prison release information for the following categories: Expirations of sentence, commutations, other conditional releases, probations, supervised mandatory releases, paroles, other conditional releases, deaths by cause, AWOLs, escapes, transfers to other jurisdictions, and releases to appeal or bond. In addition, respondents will be asked for data on jurisdictional and custody populations at yearend by gender for inmates with over 1 year maximum sentence, and inmates with a year or less maximum sentence; for information on the number of state inmates housed in facilities operated by a county or other local authority on December 31 to ease prison crowding; the number of state inmates housed in a privately operated correctional facility; inmates on December 31 by race and Hispanic origin; testing of incoming inmates for HIV; and HIV infection and AIDS cases on December 31.

The Bureau of Justice Statistics uses this information in published reports and for the U.S. Congress, the Executive Office of the President, practitioners, researchers, students, the media, and others interested in criminal justice statistics.

(5) An estimate of the total number of respondents and the amount of time needed for an average respondent to respond: 52 respondents each taking an average 5 hours to respond.

(6) An estimate of the total public burden (in hours) associated with the collection: 338 annual burden hours.

If additional information is required, contact: Mr. Robert B. Briggs, Clearance Officer, United States Department of Justice, Information Management and Security Staff, Justice Management Division, Suite 1220, 1331 Pennsylvania Ave., NW, National Place Building, Washington, DC 20530.

Dated: October 13, 2000.
Robert B. Briggs,
Department Clearance Officer, Department of Justice.

[FR Doc. 00-26924 Filed 10-18-00; 8:45 am]

BILLING CODE 4410-18-M